DEPARTMENT OF TRANSPORTATION

Federal Highway Administration

Environmental Impact Statement: Dane County, WI

AGENCY: Federal Highway Administration (FHWA), DOT.

ACTION: Notice of Intent to Prepare an Environmental Impact Statement.

SUMMARY: The purpose of this NOI is to update the notice issued in the Federal Register, Vol. 71, No. 112, Monday, June 12, 2006, Notices. The FHWA and WisDOT are updating this notice to advise the public that an Environmental Impact Statement (EIS) is continuing to be prepared for proposed transportation improvements on the United States Highway (US) 51 corridor in the Madison Urban Area, Dane County, Wisconsin. The general location is between U.S. 12/18 (Madison South Beltline Highway) and Wisconsin State Highway (WIS) 19. The EIS is being prepared in conformance with 40 CFR 1500 and FHWA regulations. The NOI is being updated to reflect the current status of the environmental study, changes in contact information, and significant coordination efforts etc that have been completed since the revised NOI was issued in June 2006.

The project was placed on “Hold” by the WisDOT in the Summer of 2010 because it was determined the type and cost of the improvements being considered met the revised definition of a WisDOT “Major Project” requiring approval by the Wisconsin Legislature's Transportation Projects Commission (TPC). In November 2011, the TPC approved the EIS study for the project as part of WisDOT's Majors Program, and efforts to continue with the EIS study were initiated in April 2012. The Project limits, Purpose & Need, and Range of Alternatives being evaluated have not changed

FOR FURTHER INFORMATION CONTACT: Johnny Gerbitz, Field Operations Engineer, Federal Highway Administration, 525 Junction Rd, Suite 8000, Madison, Wisconsin, 53717-2157, Telephone: (608) 829-7500. You may also contact Rebecca Burkel, Director, Bureau of Technical Services, Wisconsin Department of Transportation, P.O. Box 7965, Madison, Wisconsin, 53707-7965: Telephone: (608) 516-6336.

SUPPLEMENTARY INFORMATION:

Electronic Access

An electronic copy of this document may be downloaded by using a computer, modem and suitable communications software from the Government Printing Offices' Electronic Bulletin Board Service at (202) 512-1661. Internet users may reach the Office of Federal Register's home page at: http://www.archives.gov/ and the Government Printing Offices' database at: http://www.gpoaccess.gov/nara/index.html.

Background

The FHWA, in cooperation with the Wisconsin Department of Transportation, is continuing to prepare an Environmental Impact Statement (EIS) on proposed improvements to address safety, operational and capacity concerns on an approximate 11-mile (17-kilometer) portion of U.S. 51 between Terminal Drive/Voges Road (Village of McFarland) and WIS 19 (Village of DeForest) in Dane County. These improvements are being considered to address existing and future transportation demand on U.S. 51 as identified in the 2003 Stoughton Road Needs Assessment Technical Report; safety and operational concerns documented in the 2010 Traffic, Safety and Needs Report; and to identify land which may need to be preserved for future transportation improvements.

FHWA's decision to prepare an EIS is based on the initial environmental assessment that indicates the proposed action is likely to have significant impacts on the environment, including wetlands. The EIS will evaluate the social, economic, and environmental impacts of the alternatives including no build, improvements within the existing highway corridor, and possible improvements on new location.

Information describing the proposed action and soliciting comments has been sent to appropriate Federal, State, and Local agencies, American Indian Tribes, private agencies and organizations, and citizens who have expressed or are known to have an interest in this proposal. Coordination will continue to be solicited through public information meetings, agency coordination meetings, and other meetings with interested parties throughout the environmental analysis process

During the Needs Assessment activities, coordination was conducted with State and Federal review agencies, and there was extensive coordination with Local Officials. Several ongoing focus group meetings and workshops have been held since 2002. A Policy Advisory Committee (PAC) consisting of neighborhood & business representatives and elected officials has met periodically when their input on new information seems appropriate since the study began in 2002. A Technical Advisory Committee (TAC) comprised of technical staff from Local, State, and Federal agencies with stakeholder interests has also been actively involved in the development of alternatives and their impacts since 2004. A Pre-Consultation/NEPA 404 Merger Scoping Meeting was held with State and Federal agencies in April 2005. Later, the project Purpose and Need (NEPA/404 Concurrence Point #1) and the Range of Alternatives (NEPA/404 Concurrence Point #2) were also concurred in by State and Federal resource agencies in 2005. The expanded coordination procedures provided under Section 6002 of the Safe, Accountable, Flexible, Efficient Transportation Equity Act: A Legacy for Users (SAFETEA-LU) as codified in 23 U.S.C. 139 were implemented in 2007. Opportunities to be a Participating and/or Cooperating Agency and to provide input on the project's Coordination Plan (CP) and Impact Assessment Methodology (IAM) were afforded to all Local, State, and Federal agencies and American Indian Tribes with interest in the project area. Public input was obtained on the draft project CP and IAM plan at the October 2007 Public Information Meeting (PIM). The completed project CP and IAM plan was issued in October 2008. A follow-up Agency Coordination Meeting and PIM are planned for 2012 in order to update all interested parties on the current status of the EIS study and the issuance of an updated CP and IAM plan.

Two PIMs were held in 2006 and 2007 before the project was placed on “hold” by the WisDOT. At least two additional PIMs are planned while the Draft EIS is being written in order to up-date the public on the current status of the EIS study and to obtain additional public input. Following completion and publishing of the Draft EIS, a Public Hearing will be held to address the impacts of each alternative. Public notices will be given announcing the time and place of the meetings, and the Draft EIS will be available for public and agency review and comment prior to the Public Hearing. After the Draft EIS is circulated for comment, and comments from the Public Hearing are evaluated, the State and Federal resource agencies will be asked to concur in the Preferred Alternative selected by WisDOT (NEPA/404 Concurrence Point #3). Information on the Preferred Alternative, anticipated impacts, and proposed mitigation measures are also be planned to be shared with the public at another PIM before the Final EIS is published and distributed. Any additional substantive comments received on the Final EIS will be addressed in the Record of Decision (ROD).

This study shall comply with Title VI of the Civil Rights Act and of Executive Order 12898, which prohibits discrimination on the basis of race, color, age, sex, or country of national origin in the implementation of this action. To ensure that the full range of issues related to this proposed action is addressed, and all substantive issues are identified, comments and suggestions are invited from all interested parties.

In order to ensure that the full range of issues related to this proposed action is addressed, and all substantive issues are identified, comments and suggestions are invited from all interested parties. Comments or questions concerning this proposed action and the draft EIS should be directed to FHWA or the Wisconsin Department of Transportation at the addresses provided under the heading FOR FURTHER INFORMATION CONTACT.

(Catalog of Federal Domestic Assistance Program Number 20.205, Highway Planning and Construction. The regulations implementing Executive Order 12372 regarding intergovernmental consultation on Federal programs and activities apply to this program).

Authority: 23 U.S.C. 315; 49 CFR 1.48.

Issued on: August 1, 2012.
Johnny M. Gerbitz,
Field Operations Engineer, Federal Highway Administration, Madison, Wisconsin.

[FR Doc. 2012-19090 Filed 8-3-12; 8:45 am]

BILLING CODE P